NATIONAL AERONAUTICS AND SPACE ADMINISTRATION

[Notice (01-044)]

Notice of Prospective Patent License

AGENCY: National Aeronautics and Space Administration.

ACTION: Notice of prospective patent license.

SUMMARY: NASA hereby gives notice that Kelly Manufacturing Company has applied for an exclusive license to practice the invention described in NASA Case No. KSC-12,168-1, entitled “Personal Cabin Pressure Monitor and Warning System,” which is assigned to the United States of America as represented by the Administrator of the National Aeronautics and Space Administration. Written objections to the prospective grant of a license should be sent to Patent Counsel, Assistant Chief Counsel, NASA, Mail Code CC-A, Office of the Chief Counsel, John F. Kennedy Space Center, Kennedy Space Center, FL 32899.

DATES: Responses to this notice must be received by June 18, 2001.

FOR FURTHER INFORMATION CONTACT: Patent Counsel/Assistant Chief Counsel, NASA, Office of the Chief Counsel, John F. Kennedy Space Center, Mail Code CC-A, Kennedy Space Center, FL 32899, telephone (321) 867-7214.

Dated: April 11, 2001.
Edward A. Frankle,
General Counsel.

[FR Doc. 01-9570 Filed 4-17-01; 8:45 am]

BILLING CODE 7510-01-U